DEPARTMENT OF TRANSPORTATION

Federal Aviation Administration

Notice of 60-Day Extension of the Public Comment Period for the Draft Environmental Assessment for Proposed Settlement Agreement Departure Procedure Amendments for Bob Hope “Hollywood Burbank” Airport

AGENCY: Federal Aviation Administration (FAA), Department of Transportation.

ACTION: Notice of a 60-day extension of the public comment period.

SUMMARY: The FAA has received several requests seeking an extension of the public comment period for the Draft Environmental Assessment (EA) for proposed departure procedure amendments at Bob Hope “Hollywood Burbank” Airport (BUR Airport). This notice announces the 60-day extension of the public comment period until March 24, 2024, to solicit public comments on the Draft EA.

DATES: The Draft EA comment period began with the Notification of Availability published in the Federal Register on December 11, 2023 (88 FR 85968, pages 85968-85969, Docket-Number 2023-27143) and was originally scheduled to end on January 24, 2024. Based on comments received, the comment period will be extended by an additional 60 days and all comments must be received no later than March 24, 2024.

ADDRESSES: Comments can be submitted by email to 9-AJO-BUR-Community-Involvement@FAA.GOV or by mail to Federal Aviation Administration, Operations Support Group, Western Service Center, 2200 216th Street, Des Moines, WA 98198.

Under FAA Order 1050.1F, 6-2.2(g), Public Comments on a Draft EA, the “FAA or applicant must publish a notice of the draft EA's availability in local newspapers, other media, and/or on the internet. This notice must include the following statement: Before including your address, phone number, email address, or other personal identifying information in your comment, be advised that your entire comment—including your personal identifying information—may be made publicly available at any time. While you can ask us in your comment to withhold from public review your personal identifying information, we cannot guarantee that we will be able to do so.”

FOR FURTHER INFORMATION CONTACT: Lonnie D. Covalt, Operations Support Group, Western Service Center, 2200 216th Street, Des Moines, WA 98198; email 9-AJO-BUR-Community-Involvement@FAA.GOV. (206) 231-3998.

Issued in Des Moines, WA, on January 11, 2024.
Lonnie D. Covalt,
Lead Environmental Protection Specialist, Operations Support Group, Western Service Center.

[FR Doc. 2024-00838 Filed 1-17-24; 8:45 am]

BILLING CODE P